DEPARTMENT OF THE INTERIOR

National Park Service

[NPS-WASO-NAGPRA-23140; PPWOCRADN0-PCU00RP14.R50000]

Notice of Intent To Repatriate Cultural Items: Peabody Museum of Natural History, Yale University, New Haven, CT

AGENCY: National Park Service, Interior.

ACTION: Notice.

SUMMARY: The Peabody Museum of Natural History, in consultation with the appropriate Indian tribes or Native Hawaiian organizations, has determined that the cultural item listed in this notice meets the definition of unassociated funerary object. Lineal descendants or representatives of any Indian tribe or Native Hawaiian organization not identified in this notice that wish to claim this cultural item should submit a written request to the Peabody Museum of Natural History. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Peabody Museum of Natural History at the address in this notice by June 2, 2017.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3005, of the intent to repatriate a cultural item under the control of the Peabody Museum of Natural History, Yale University, New Haven, CT, that meets the definition of unassociated funerary object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1904, one cultural item was removed from a grave near Fort Clark, Mercer County, ND, and donated to the Peabody Museum of Natural History in 1915. The one unassociated funerary object is a swan bone whistle.

Museum documentation identifies the provenience as an Arikara grave near Fort Clark, ND. In 1830, the Fort Clark Trading Post was established in an area south of a Mandan village by James Kipp, an employee of the American Fur Company. The Mandan occupied the village until 1837, when a disastrous smallpox epidemic forced their removal. Before the Mandan could return, a group of Arikara moved into the village and remained until about 1861. Descendants of the Arikara and Mandan of the Fort Clark, ND, region are today members of the Three Affiliated Tribes of the Fort Berthold Reservation, North Dakota.

Determinations Made by the Peabody Museum of Natural History

Officials of the Peabody Museum of Natural History have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary object and the Three Affiliated Tribes of the Fort Berthold Reservation, North Dakota.

Additional Requestors and Disposition

Lineal descendants or representatives of any Indian tribe or Native Hawaiian organization not identified in this notice that wish to claim this cultural item should submit a written request with information in support of the claim to Professor David Skelly, Director, Yale Peabody Museum of Natural History, P.O. Box 208118, New Haven, CT 06520-8118, telephone (203) 432-3752, by June 2, 2017. After that date, if no additional claimants have come forward, transfer of control of the unassociated funerary object to the Three Affiliated Tribes of the Fort Berthold Reservation, North Dakota, may proceed.

The Peabody Museum of Natural History is responsible for notifying the Three Affiliated Tribes of the Fort Berthold Reservation, North Dakota, that this notice has been published.

Dated: March 22, 2017.
Melanie O'Brien,
Manager, National NAGPRA Program.

[FR Doc. 2017-08876 Filed 5-2-17; 8:45 am]

BILLING CODE 4312-52-P